DEPARTMENT OF HEALTH AND HUMAN SERVICES

Centers for Disease Control and Prevention

National Center for Injury Prevention and Control, Initial Review Group, (NCIPC, IRG)

Correction: This notice was published in the Federal Register on March 30, 2009, Volume 74, Number 59, Page 14134. The times and place for the aforementioned meeting have been changed to the following:

Times and Dates:

10 a.m.-10:30 a.m., April 22, 2009 (Open).

10:30 a.m.-5 p.m., April 22, 2009 (Closed).

Place: Teleconference, toll free: (888)793-2154, Participant Passcode: 4424802.

Contact Person for More Information: Jane Suen, Dr. P.H., M.S., NCIPC, CDC, 4770 Buford Highway, NE., Mailstop F-62, Atlanta, Georgia 30341, Telephone: (770) 488-4281.

The Director, Management Analysis and Services Office, has been delegated the authority to sign Federal Register notices pertaining to announcements of meetings and other committee management activities, for both CDC and the Agency for Toxic Substances and Disease Registry.

Dated: April 3, 2009.
Elaine L. Baker,
Director, Management Analysis and Services Office, Centers for Disease Control and Prevention.

[FR Doc. E9-8331 Filed 4-10-09; 8:45 am]

BILLING CODE 4163-18-P